DEPARTMENT OF AGRICULTURE

Forest Service

Eldorado National Forest; California; Eldorado National Forest Over-Snow Vehicle (OSV) Use Designation Environmental Impact Statement

AGENCY: Forest Service, USDA.

ACTION: Notice of intent to prepare an environmental impact statement.

SUMMARY: The Forest Service, U.S. Department of Agriculture will prepare an Environmental Impact Statement (EIS) on a proposal to designate over-snow vehicle (OSV) use on National Forest System roads, National Forest System trails, and Areas on National Forest System lands within the Eldorado National Forest; and to identify snow trails for grooming within the Eldorado National Forest. In addition, the Forest Service proposes to:

1. Formally adopt California State Parks' Off-Highway Motor Vehicle Recreation (OHMVR) Division snow depth standards for grooming to occur;

2. Implement a forest-wide snow depth requirement for OSV use that would provide for public safety and natural and cultural resource protection by allowing off-trail, cross-country OSV use in designated Areas when there is a minimum of 12 inches of continuous and supportable snow covering the landscape;

3. Allow OSV use on designated National Forest System snow trails when there is a minimum of 6 inches of snow, regardless of the underlying surface; and

4. Prohibit OSV use in selected Areas and on non-motorized trails.

This proposal would be implemented on all of the Eldorado National Forest.

DATES: Comments concerning the scope of the analysis must be received by April 3, 2015. The draft environmental impact statement is expected in February 2016 and the final environmental impact statement is expected in October 2016.

ADDRESSES: Send written comments to Micki D. Smith, on behalf of Laurence Crabtree, Forest Supervisor, Eldorado National Forest, 100 Forni Road Placerville, CA 95667. Comments may also be sent via facsimile to 530-621-5297. Comments may also be submitted on the Eldorado National Forest OSV Designation Web page: http://www.fs.usda.gov/project/?project=46034.

Individuals who use telecommunication devices for the deaf (TTY) may call the Federal Information Relay Service (FIRS) at (800) 877-8339 TTY, 24 hours a day, 7 days a week.

FOR FURTHER INFORMATION CONTACT: Micki D. Smith, Amador Resource and Recreation Staff Officer, USDA Forest Service, Eldorado National Forest, 100 Forni Road, Placerville, CA 95667; phone: 209-295-5960; mdsmith@fs.fed.us.

SUPPLEMENTARY INFORMATION: The following summarizes how the Forest Service currently manages OSV use on the approximately 606,260-acre Eldorado National Forest:

1. Approximately 56 miles of National Forest System OSV trails exist on the Eldorado National Forest; all of which are groomed for OSV use;

2. Approximately 159 miles of National Forest System trails are closed to OSV use, but accessible from Areas otherwise open to off-trail, cross-country OSV use;

3. Approximately 452,140 acres of National Forest System land are open to off-trail, cross-country OSV use; and

4. Approximately 154,120 acres of National Forest System land are closed to OSV use.

Travel Management Rule Subpart C: The Forest Service issued a final rule governing OSV management (Subpart C of the Travel Management Rule, 36 CFR part 212) in the Federal Register on January 18, 2015, and this rule went into effect on February 27, 2015 (80 FR 4500, Jan. 28, 2015). Subpart C of the Travel Management Rule states,

“Over-snow vehicle use on National Forest System roads, on National Forest System trails, and in areas on National Forest System lands shall be designated by the Responsible Official on administrative units or Ranger Districts, or parts of administrative units or Ranger Districts, of the National Forest System where snowfall is adequate for that use to occur, and, if appropriate, shall be designated by class of vehicle and time of year, provided that the following uses are exempted from these decisions:

1. Limited administrative use by the Forest Service;

2. Use of any fire, military, emergency, or law enforcement vehicle for emergency purposes;

3. Authorized use of any combat or combat support vehicle for national defense purposes;

4. Law enforcement response to violations of law, including pursuit; and

5. Over-snow vehicle use that is specifically authorized under a written authorization issued under Federal law or regulations” (36 CFR 212.81(a)).

The designations resulting from this analysis would only apply to the use of OSVs. An OSV is defined in the Forest Service's Travel Management Rule as “a motor vehicle that is designed for use over snow and that runs on a track or tracks and/or a ski or skis, while in use over snow” (36 CFR 212.1). OSV use designations made as a result of the analysis in this environmental impact statement would conform to Subpart C of the Travel Management Rule. OSV use that is inconsistent with the OSV use designations made under this decision would be prohibited under 36 CFR 261.14.

These designations would not affect valid existing rights held by federally recognized tribes, counties, or private individuals, including treaty rights, other statutory rights, or private rights-of-way.

Snow Trail Grooming Program: For over 30 years, the Forest Service, Pacific Southwest Region, in cooperation with the California Department of Parks and Recreation (California State Parks) Off-highway Motor Vehicle Division has enhanced winter recreation, and more specifically, snowmobiling recreation by maintaining National Forest System trails (snow trails) by grooming snow for snowmobile use. Most groomed snow trails are co-located on underlying National Forest System roads and trails. Some grooming occurs on county roads and closed snow-covered highways, and some routes are designated cross-country over snow. Grooming activities are funded by the state off-highway vehicle trust fund.

In 2013, the Forest Service entered into a Settlement Agreement with Snowlands Network et al., to “complete appropriate NEPA [National Environmental Policy Act] analysis(es) to identify snow trails for grooming” on the Eldorado National Forest and four other national forests in California. The Forest Service will comply with the terms of the Settlement Agreement for the Eldorado National Forest by completing this analysis. Other requirements of the Settlement Agreement are listed in the “Need for Analysis” section, below.

Purpose and Need for Action

One purpose of this project is to effectively manage OSV use on the Eldorado National Forest to provide access, ensure that OSV use occurs when there is adequate snow, promote the safety of all users, enhance public enjoyment, minimize impacts to natural and cultural resources, and minimize conflicts among the various uses.

There is a need to provide a manageable, designated OSV system of trails and Areas within the Eldorado National Forest, that is consistent with and achieves the purposes of the Forest Service Travel Management Rule at 36 CFR part 212. This action responds to direction provided by the Forest Service's Travel Management Rule.

The existing system of available OSV trails and Areas on the Eldorado National Forest is the culmination of multiple agency decisions over recent decades. Public OSV use of the majority of this available system continues to be manageable and consistent with current travel management regulations. Exceptions have been identified, based on internal and public input and the criteria for designating roads, trails, and Areas listed at 36 CFR 212.55. These include needs to provide improved access for OSV users and enact prohibitions required by the Eldorado National Forest Land and Resource Management Plan (Forest Plan) and other management direction. These exceptions represent additional needs for change, and in these cases, changes are proposed to meet the overall objectives.

The Forest Service has identified trails and Areas in which OSV use should be prohibited based on management direction in the Forest Plan. These trails and areas are currently managed as closed to OSV use through temporary closure orders to comply with Forest Plan direction. However, those closure orders will eventually expire. Therefore, the proposed action will prohibit OSV use on these trails and in these Areas on a more permanent basis to be consistent with the Forest Plan.

A second purpose of this project is to identify snow trails where the Forest Service or its contractors would conduct grooming for OSV use. Under the terms of the Settlement Agreement between the Forest Service and Snowlands Network et al., the Forest Service is required to complete the appropriate NEPA analysis to identify snow trails for grooming on the Eldorado National Forest.

The snow trail grooming analysis would also address the need to provide a safe, high-quality snowmobile trail system on the Eldorado National Forest that is smooth and stable for the rider. Groomed trails are designed so that the novice rider can use them safely and without difficulty.

Need for Analysis

Subpart C of the Forest Service Travel Management Regulation requires the Forest Service to designate over-snow vehicle (OSV) use on National Forest System roads, National Forest System trails, and Areas on National Forest System lands. Both decisions will be informed by an analysis as required by the National Environmental Policy Act (42 U.S.C. 4321 et seq.).

Subpart C of the Travel Management Regulation specifies that all requirements of subpart B of the Travel Management Regulations will continue to apply to the designation decision, including:

1. Public involvement as required by the National Environmental Policy Act (36 CFR 212.52);

2. Coordination with Federal, State, county, and other local governmental entities and tribal governments (36 CFR 212.53);

3. Revision of designations (36 CFR 212.54);

4. Consideration of the criteria for designation of roads, trails, and Areas (36 CFR 212.55);

5. Identification of designated uses on a publicly available use map of roads, trails, and Areas (36 CFR 212.56); and

6. Monitoring of effects (36 CFR 212.57).

Pursuant to the Settlement Agreement, the Forest Service is required to complete an appropriate NEPA analysis to identify snow trails for grooming. Furthermore, additional terms of the Settlement Agreement require the Forest Service to:

1. Analyze ancillary activities such as the plowing of related parking lots and trailheads as part of the effects analysis;

2. Consider a range of alternative actions that would result in varying levels of snowmobile use; and

3. Consider an alternative submitted by Plaintiffs and/or Interveners during the scoping period in the NEPA analysis so long as the alternative meets the purpose and need, and is feasible and within the scope of the NEPA analysis.

Proposed Action

The Forest Service proposes several actions on the Eldorado National Forest to be analyzed as required by the National Environmental Policy Act (NEPA). The actions proposed are as follows:

1. To designate OSV use on National Forest System roads, National Forest System trails, and Areas on National Forest System lands within the Eldorado National Forest where snowfall depth is adequate for that use to occur. This would result in no change in the number of miles of snow trail and acres of OSV Areas on the Eldorado National Forest where OSV use would be allowed, subject to snow depth restrictions. All existing OSV prohibitions applying to Areas or trails would continue. OSV use that is inconsistent with the designations made under this project would be prohibited under 36 CFR 261.14.

2. To enact OSV prohibitions of a more permanent nature than the temporary closures that currently exist in the following Areas and trails, consistent with management direction in the Forest Plan:

a. Caples Creek Recommended Wilderness;

b. Primitive High Country;

c. Areas within Semi-primitive Non-motorized High Country: Little McKinstry, Shadow Lake, Rockbound, July Flat, Bryan Meadow, Devils Lake, Hidden Lake, and Little Indian;

d. Research Natural Areas (RNAs): Peavine RNA, and Station Creek RNA;

e. Special Use permitted areas: Kirkwood Mountain and Kirkwood Nordic Ski Resorts, Sierra-at-Tahoe Resort, Adventure Mountain, and Echo Summit Nordic area;

f. Rock Creek Critical Deer Winter Range;

g. Loon Lake Winter Recreation Area (including forest developed roads);

h. Emigrant Lake Trail;

i. Carson-Emigrant National Recreation Trail from Horse Canyon Saddle to Caples Lake Trailhead; and

j. Rock Creek Trails (including Mar Det).

3. To identify approximately 56 miles of designated snow trails that would be groomed on the Eldorado National Forest for OSV use. Our trail mileages are estimates only and we are currently reviewing the status of trails where there is uncertainty regarding Forest Service jurisdiction or grooming authorization, such as trails located on private property, or county roads that groomed trails have historically passed through.

4. To groom trails consistent with historical grooming practices, when there are 12 or more inches of snow, and formally adopt California State Parks' Off-Highway Motor Vehicle Recreation (OHMVR) Division snow depth standards for grooming to occur.

5. To implement a forest-wide snow depth requirement for OSV use that would provide for public safety and natural and cultural resource protection by allowing off-trail, cross-country OSV use in designated Areas when there is a minimum of 12 inches of continuous and supportable snow covering the landscape; and allow OSV use on designated National Forest System snow trails when there is a minimum of 6 inches of snow, regardless of the underlying surface. When the snow-depth requirement is not met, OSV use would be prohibited.

These actions would begin immediately upon the issuance of the record of decision, which is expected in October of 2016. The Forest Service would produce an OSV use map (OSVUM) that would look like the existing motor vehicle use map (MVUM) for the Eldorado National Forest. Such a map would allow OSV enthusiasts to identify the routes and Areas where OSV use would be allowed on the Eldorado National Forest.

Responsible Official

The Eldorado National Forest Supervisor will issue the decision.

Nature of Decision To Be Made

This decision will designate OSV use on National Forest System roads, on National Forest System trails, and in Areas on National Forest System lands on the Eldorado National Forest where snowfall is adequate for that use to occur. It will also identify the National Forest System trails where grooming would occur. The decision would only apply to the use of over-snow vehicles as defined in the Forest Service's Travel Management Regulations (36 CFR 212.1). The Forest Supervisor will consider all reasonable alternatives and decide whether to continue current management of OSV uses on the Eldorado National Forest, implement the proposed action, or select an alternative for the management of OSV uses.

Scoping Process

This notice of intent initiates the scoping process, which guides the development of the environmental impact statement.

It is important that reviewers provide their comments at such times and in such manner that they are useful to the agency's preparation of the environmental impact statement. Written comments should be within the scope of the proposed action, have a direct relationship to the proposed action, and must include supporting reasons for the responsible official to consider. Therefore, comments should be provided prior to the close of the comment period and should clearly articulate the reviewer's concerns and contentions. The preferred format for attachments to electronically submitted comments would be as an MS Word document. Attachments in portable document format (pdf) are not preferred, but are acceptable.

Comments received in response to this solicitation, including names and addresses of those who comment, will be part of the public record for this proposed action. Comments submitted anonymously will be accepted and considered, however.

The Eldorado National Forest Over-Snow Vehicle (OSV) Use Designation is an activity implementing a land management plan. It is not an activity authorized under the Healthy Forests Restoration Act of 2003 (Pub. L. 108-148). Therefore, this activity is subject to pre-decisional administrative review consistent with the Consolidated Appropriations Act of 2012 (Pub. L. 112-74) as implemented by subparts A and B of 36 CFR part 218.

Dated: February 26, 2015.
Laurence Crabtree,
Forest Supervisor, Eldorado National Forest.

[FR Doc. 2015-04459 Filed 3-3-15; 8:45 am]

BILLING CODE 3410-11-P